FEDERAL ELECTION COMMISSION

Sunshine Act Notices

Agency: Federal Election Commission.

Date and Time: Thursday, January 14, 2010, at 10 a.m.

Place: 999 E Street, NW., Washington, DC. (Ninth Floor).

Status: Meeting open to the public.

The Following Item was Withdrawn From the Agenda:

Draft Advisory Opinion 2009-27: American Future Fund Political Action by its counsel, Jason Torchinsky.

* * * * *

Previously Scheduled Date and Time: Thursday, January 28, 2010 (meeting open to the public). This meeting was rescheduled for Friday, January 29, 2010.

* * * * *

Individuals who plan to attend and require special assistance, such as sign language interpretation or other reasonable accommodations, should contact Darlene Harris, Deputy Commission Secretary, at (202) 694-1040, at least 72 hours prior to the hearing date.

Person To Contact for Information: Judith Ingram, Press Officer, Telephone: (202) 694-1220.

Darlene Harris,
Deputy Secretary of the Commission.

[FR Doc. 2010-1024 Filed 1-20-10; 8:45 am]

BILLING CODE 6715-01-M